NATIONAL CREDIT UNION ADMINISTRATION

Sunshine Act; Notice of Agency Meeting

Time and Date: 10 a.m., Thursday, May 22, 2008.

Place: Board Room, 7th Floor, Room 7047, 1775 Duke Street, Alexandria, VA 22314-3428.

Status: Open.

Matters to be Considered:

1. NCUA's Outreach Task Force: Data Collection.

2. Board Briefing: Proposed Rule—Part 706 of NCUA's Rules and Regulations, Unfair or Deceptive Acts or Practices.

3. Proposed Rule: Part 701 of NCUA's Rules and Regulations, Interpretive Ruling and Policy Statement (IRPS) 08-2, Criteria to approve service to undeserved areas.

4. Proposed Rule: Part 721 of NCUA's Rules and Regulations, Incidental Powers.

Recess: 11:15 a.m.

Time and Date: 11:30 a.m., Thursday, May 22, 2008.

Place: Board Room, 7th Floor, Room 7047, 1775 Duke Street, Alexandria, VA 22314-3428.

Status: Closed.

Matters to be Considered:

1. One (1) Administrative Action under Sections 205, 207, and 208 of the Federal Credit Union Act. Closed pursuant to Exemptions (8), (9)(A)(ii), and (9)(B).

FOR FURTHER INFORMATION CONTACT: Mary Rupp, Secretary of the Board, Telephone: 703-518-6304.

Mary Rupp,
Secretary of the Board.

[FR Doc. E8-11278 Filed 5-21-08; 8:45 am]

BILLING CODE 7535-01-M